DEPARTMENT OF ENERGY

Federal Energy Regulatory Commission

[Project No. 1971-079 Idaho/Oregon]

Idaho Power Company; Notice on Clarification of Tribal Consultation Meetings

March 17, 2004.

In the Notice of Tribal Consultation Briefing, issued March 9, 2004, the Commission indicated that it would hold meetings with the Indian Tribes potentially affected by the relicensing of the Hells Canyon Project between March 29 and March 31, 2004. These meetings will not be open to the public but will be transcribed by a court reporter. The transcripts will be available on the Commission's Web site (http://www.ferc.gov/docs-filing/elibrary.asp) as soon as possible after the meetings.

In addition, as also indicated in the notice, to review the matters discussed at the tribal meetings, the Commission staff will be holding a separate tribal consultation briefing, on Thursday, April 1, 2004, from 9:30 a.m. to 11:30 a.m. at the Boise Center on the Grove, 850 Front Street, Boise, Idaho. This briefing will be open to the public, including all tribes, agencies, non-governmental organizations, and individuals.

For more information, contact Alan Mitchnick at (202) 502-6074, alan.mitchnick@ferc.gov; or Emily Carter at (202) 502-6512, emily.carter@ferc.gov.

Magalie R. Salas,
Secretary.

[FR Doc. E4-699 Filed 3-26-04; 8:45 am]

BILLING CODE 6717-01-P